DEPARTMENT OF STATE

[Public Notice 8098]

Notice of Meeting of Advisory Committee on International Law

A meeting of the Advisory Committee on International Law will take place on Friday December 14, from 9:30 a.m. to approximately 5:30 p.m., at the George Washington University Law School (Frederick Lawrence Student Conference Center), 2000 H St. NW., Washington, DC. The meeting will be chaired by the Legal Adviser of the Department of State, Harold Hongju Koh, and will be open to the public up to the capacity of the meeting room. It is anticipated that the agenda of the meeting will cover a range of current international legal topics, including corporate social responsibility, principles of self-defense, maritime security, international promotion of the freedom of expression, and the International Law Commission's consideration of the topic of crimes against humanity.

Members of the public who wish to attend the session should, by Friday, December 7, 2012, notify the Office of the Legal Adviser (telephone: (202) 776-8442, email: LermanJB@state.govmailto:KillTP@state.gov) of their name, professional affiliation, address, and telephone number. A valid photo ID is required for admittance. A member of the public who needs reasonable accommodation should make his or her request by December 5, 2012. Requests made after that time will be considered but might not be possible to accommodate.

Dated: November 20, 2012.
Theodore P. Kill,
Attorney-Adviser, Office of Claims and Investment Disputes, Office of the Legal Adviser, Executive Director, Advisory Committee on International Law, Department of State.

[FR Doc. 2012-28851 Filed 11-27-12; 8:45 am]

BILLING CODE 4710-08-P